DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 21, 2007.

Interested persons are invited to submit written comments regarding the subject matter of the investigations to the Director, Division of Trade Adjustment Assistance, at the address shown below, not later than December 21, 2007.

The petitions filed in this case are available for inspection at the Office of the Director, Division of Trade Adjustment Assistance, Employment and Training Administration, U.S. Department of Labor, Room C-5311, 200 Constitution Avenue, NW., Washington, DC 20210.

Signed at Washington, DC, this 4th day of December 2007.
Ralph Dibattista,
Director, Division of Trade Adjustment Assistance.

Appendix
[TAA petitions instituted between 11/26/07 and 11/30/07]
TA-W | Subject firm (petitioners) | Location | Date of institution | Date of petition
62494 | Red Farm Studios LLC (Comp) | Pawtucket, RI | 11/26/07 | 11/01/07
62495 | Telex Communications, Inc. (State) | Blue Earth, MN | 11/27/07 | 11/26/07
62496 | GE Lighting Systems, Inc. (Comp.) | East Flat Rock, NC | 11/27/07 | 11/20/07
62497 | H & W Trucking Co., Inc. (Comp) | Mt. Airy, NC | 11/27/07 | 11/26/07
62498 | Double D Logging (Comp) | John Day, OR | 11/27/07 | 11/26/07
62499 | Timber Products Company (Wkrs) | Grants Pass, OR | 11/27/07 | 11/26/07
62500 | Credence Systems Corp (Comp) | Hillsboro, OR | 11/27/07 | 11/21/07
62501 | American Fiber and Finishing, Inc. (Comp) | Albemarle, NC | 11/28/07 | 11/27/07
62502 | Girard Plastics, LLC (Comp) | Girard, PA | 11/28/07 | 11/27/07
62503 | Black & Decker Abrasives, Inc. (Comp) | Marshall, TX | 11/28/07 | 11/26/07
62504 | Electronic Data Systems (Wkrs) | Midland, MI | 11/28/07 | 11/27/07
62505 | Springs Global U.S./Charles D. Owen Manufacturing (Comp) | Swannanoa, NC | 11/28/07 | 11/27/07
62506 | Dielink International (Comp) | Grand Rapids, MI | 11/29/07 | 11/26/07
62507 | Chester Bednar (Comp) | Washington, PA | 11/29/07 | 11/20/07
62508 | Brenham Spring (Comp) | Brenham, TX | 11/29/07 | 11/29/07
62509 | Bekaert Corporation (Comp) | Dyersburg, TN | 11/29/07 | 11/27/07
62510 | Cuno, Inc (State) | Meriden, CT | 11/29/07 | 11/28/07
62511 | BCGI Cellular Express (Wkrs) | Westbrook, ME | 11/29/07 | 11/26/07
62512 | Dunlap Industries (Wkrs) | Dunlap, TN | 11/29/07 | 11/13/07
62513 | SE-GI Products, Inc. (State) | Norco, CA | 11/29/07 | 11/28/07
62514 | Atlas Aero Corporation (State) | Meriden, CT | 11/29/07 | 11/28/07
62515 | Drive Sol Global Steering Inc. (State) | Watertown, CT | 11/30/07 | 11/29/07
62516 | Northern Machine Tool Company (Comp) | Muskegon, MI | 11/30/07 | 11/28/07
62517 | BenchCraft (Comp) | Blue Mountain, MS | 11/30/07 | 11/29/07
62518 | Chace Leathers, Inc. (State) | Fall River, MA | 11/30/07 | 11/28/07
62519 | American Greetings Corporation (Comp) | Philadelphia, MS | 11/30/07 | 11/29/07
62520 | Carrier Access Corporation (Comp) | Boulder, CO | 11/30/07 | 11/27/07

[FR Doc. E7-23909 Filed 12-10-07; 8:45 am]

BILLING CODE 4510-FN-P